NATIONAL ARCHIVES AND RECORDS ADMINISTRATION

[NARA-2020-031]

Agency Information Collection Activities: Submission for OMB Review; Comment Request

AGENCY: National Archives and Records Administration (NARA).

ACTION: Notice.

SUMMARY: NARA has submitted to OMB for approval the information collections described in this notice. We invite you to comment on them.

DATES: OMB must receive written comments on or before May 8, 2020.

ADDRESSES: Send written comments and recommendations for the proposed information collection to www.reginfo.gov/public/do/PRAMain by May 8, 2020. You can find this particular information collection by selecting “Currently under 30-day Review—Open for Public Comments” or by using the search function.

FOR FURTHER INFORMATION CONTACT: Tamee Fechhelm, by telephone at 301.837.1694 or by fax at 301.837.7409, with requests for additional information or copies of the proposed information collection and supporting statement.

SUPPLEMENTARY INFORMATION: Pursuant to the Paperwork Reduction Act of 1995 (Pub. L. 104-13), we invite the public and other Federal agencies to comment on proposed information collections. We published a notice of proposed collection for this information collection on October 10, 2019 (85 FR 54646) and we received no comments. We have therefore submitted the described information collection to OMB for approval.

You should address one or more of the following points in any comments or suggestions you submit: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether the collection affects small businesses.

In this notice, we solicit comments concerning the following information collection:

Title: Limited Facility Report.

OMB number: 3095-0073.

Agency form number: NA Form 16016.

Type of review: Regular.

Affected public: Not-for-profit institutions.

Estimated number of respondents: 75.

Estimated time per response: 60 minutes.

Frequency of response: On occasion.

Estimated total annual burden hours: 75 hours.

Abstract: NARA administers the National Archives Traveling Exhibits Services (NATES) in accordance with 44 U.S.C. 2108-9 to present exhibitions of our holdings and to enter into agreements under 44 U.S.C. 2305 for the support of such exhibitions.

Requesters use NA Form 16016, Limited Facility Report, to apply for an exhibit and to identify a venue's facility and environmental conditions. We provide the form, requirements for exhibition security, and regulations to the applicant. We need the information contained on this form to determine whether the proposed facility meets the criteria under NARA Directive 1612, Exhibition Loans and Traveling Exhibitions, so we can assess the holdings being requested for the exhibit and ensure the requested exhibition will not harm them.

Swarnali Haldar,
Executive for Information Services/CIO.

[FR Doc. 2020-07371 Filed 4-7-20; 8:45 am]

BILLING CODE 7515-01-P